SECURITIES AND EXCHANGE COMMISSION

[Release No. 34-56460; File No. SR-CBOE-2007-84]

Self-Regulatory Organizations; Chicago Board Options Exchange, Incorporated; Order Approving Proposed Rule Change To Amend CBOE's Rule Pertaining to Verification Requests for Trade Reporting Minor Rule Violations

September 18, 2007.

On July 18, 2007, the Chicago Board Options Exchange, Incorporated (“CBOE” or “Exchange”) filed with the Securities and Exchange Commission (“Commission”), pursuant to Section 19(b)(1) of the Securities Exchange Act of 1934 (“Act”) ¹ and Rule 19b-4 thereunder,² a proposed rule change to amend CBOE Rule 17.50 (Imposition of Fines for Minor Rule Violations) Interpretation and Policy .02(b) regarding verification requests for fines imposed pursuant to the provisions of CBOE Rule 17.50(g)(4) (Failure to Submit Trade Information on Time and Failure to Submit Trade Information to the Price Reporter). The proposed rule change was published for comment in the Federal Register on August 17, 2007.³ The Commission received no comments regarding the proposal.

¹ 15 U.S.C. 78s(b)(1).

² 17 CFR 240.19b-4.

³ See Securities Exchange Act Release No. 56239(August 10, 2007), 72 FR 46257.

The Commission finds that the proposal is consistent with the requirements of the Act and the rules and regulations thereunder applicable to a national securities exchange.⁴ In particular, the Commission believes that the proposal is consistent with Section 6(b)(5) of the Act,⁵ which requires that the rules of an exchange be designed to, among other things, protect investors and the public interest. The Commission believes that the proposed rule change, by extending the “look-back” period for determining the maximum number of verification requests for trade reporting violations, would make a reasonable adjustment to its MRVP review process.

⁴ In approving this proposed rule change, the Commission notes that it has considered the proposed rule's impact on efficiency, competition, and capital formation. See 15 U.S.C. 78c(f).

⁵ 15 U.S.C. 78f(b)(5).

The Commission also believes that handling violations of trade reporting rules pursuant to the MRVP is consistent with Sections 6(b)(1) and 6(b)(6) of the Act,⁶ which require that the rules of an exchange enforce compliance with, and provide appropriate discipline for, violations of Commission and Exchange rules. The Commission also finds that the proposal is consistent with the public interest, the protection of investors, or otherwise in furtherance of the purposes of the Act, as required by Rule 19d-1(c)(2) under the Act,⁷ which governs minor rule violation plans. The Commission believes that the proposed change to the MRVP should strengthen the Exchange's ability to carry out its oversight and enforcement responsibilities as a self-regulatory organization in cases where full disciplinary proceedings are unsuitable in view of the minor nature of the particular violation.

⁶ 15 U.S.C. 78f(b)(1) and 78f(b)(6).

⁷ 17 CFR 240.19d-1(c)(2).

In approving this proposed rule change, the Commission in no way minimizes the importance of compliance with CBOE rules and all other rules subject to the imposition of fines under the MRVP. The Commission believes that the violation of any self-regulatory organization's rules, as well as Commission rules, is a serious matter. However, the MRVP provides a reasonable means of addressing rule violations that do not rise to the level of requiring formal disciplinary proceedings, while providing greater flexibility in handling certain violations. The Commission expects that CBOE will continue to conduct surveillance with due diligence and make a determination based on its findings, on a case-by-case basis, whether a fine of more or less than the recommended amount is appropriate for a violation under the MRVP or whether a violation requires formal disciplinary action under CBOE Rules 17.1-17.10.

It is therefore ordered, pursuant to Section 19(b)(2) of the Act ⁸ and Rule 19d-1(c)(2) under the Act,⁹ that the proposed rule change (SR-CBOE-2007-84), as amended, be, and hereby is, approved and declared effective.

⁸ 15 U.S.C. 78s(b)(2).

⁹ 17 CFR 240.19d-1(c)(2).

For the Commission, by the Division of Market Regulation, pursuant to delegated authority.¹⁰
¹⁰ 17 CFR 200.30-3(a)(12); 17 CFR 200.30-3(a)(44).
Florence E. Harmon,
Deputy Secretary.

[FR Doc. E7-18824 Filed 9-24-07; 8:45 am]

BILLING CODE 8010-01-P